DEPARTMENT OF ENERGY

Federal Energy Regulatory Commission

[Project No. 15310-001]

Neptune Pumped Storage 1, LLC; Notice of Surrender of Preliminary Permit

Take notice that Rye Development, LLC, on behalf of Neptune Pumped Storage 1, LLC, permittee for the proposed Elephant Rock Pumped Storage Project No. 15310, has requested that its preliminary permit be terminated. The permit was issued on February 15, 2024, and would have expired on January 31, 2028.¹ The project would have been located near the Sixes River in Curry County, Oregon.

¹ Neptune Pumped Storage 2, LLC, 186 FERC ¶ 61,111 (2024).

The preliminary permit for Project No. 15310 will remain in effect until the close of business, thirty days from the date of this notice. But, if the Commission is closed on this day, then the permit remains in effect until the close of business on the next day in which the Commission is open.² New applications for this site may not be submitted until after the permit surrender is effective.

² 18 CFR 385.2007(a)(2) (2025).

(Authority: 18 CFR 2.1)

Dated: December 5, 2025.
Debbie-Anne A. Reese,
Secretary.

[FR Doc. 2025-22450 Filed 12-9-25; 8:45 am]

BILLING CODE 6717-01-P